OFFICE OF THE UNITED STATES TRADE REPRESENTATIVE

Notice of Meeting of the Industry Sector Advisory Committee on Services (ISAC-13)

AGENCY: Office of the United States Trade Representative.

ACTION: Notice of Meeting.

SUMMARY: The Industry Sector Advisory Committee on Services (ISAC-13) will hold a meeting on November 1, 2000, from 9:30 a.m. to 12:00 noon. The meeting will be opened to the public from 9:30 a.m. to 10:30 a.m. and closed to the public from 10:30 a.m. to 12:00 noon.

DATES: The meeting is scheduled for November 1, 2000, unless otherwise notified.

ADDRESSES: The meeting will be held at the Department of Commerce, Room 6800, located at 14th Street between Pennsylvania and Constitution Avenues, NW., Washington, DC.

FOR FURTHER INFORMATION CONTACT: Karen Holderman, (202) 482-0345, Department of Commerce, 14th St. and Constitution Ave., NW., Washington, DC 20230, or Dominic Bianchi, Office of the United States Trade Representative, 1724 F St. NW., Washington, DC 20508, (202) 395-6120.

SUPPLEMENTARY INFORMATION: During the opened portion of the meeting the ISAC members will comment and make recommendations on the reform of the trade advisory system.

Dominic Bianchi,
Acting Assistant United States Trade Representative for Intergovernmental Affairs and Public Liaison.

[FR Doc. 00-27862 Filed 10-26-00; 8:45 am]

BILLING CODE 3190-01-M